DEPARTMENT OF JUSTICE

Notice of Lodging of Consent Decree Under the Comprehensive Environmental Response, Compensation, and Liability Act

In accordance with Department of Justice policy, notice is hereby given that on June 28, 2006, a proposed consent decree (``Consent Decree'') in United States v. Glen Ekberg, Civil Action No. 01 C 50457, was lodged with the United States District Court for the Northern District of Illinois, Western Division.

The Consent Decree would resolve claims for unreimbursed past response costs, and for future costs to be incurred by the United States related to response activities concerning Source Area 7 at the Southeast Rockford Groundwater Contamination Superfund Site (``Site'') in the city of Rockford, Winnebago County, Illinois. Under the Consent Decree, Defendant Glen Ekberg would pay a total of $1,231,125 toward the unreimbursed response costs. The Consent Decree would also require the Defendant to provide access to his property at the Site for the construction and implementation of the remedy, and to record an easement imposing land use and water use restrictions on portions of his property.

The Department of Justice will receive for a period of thirty (30) days from the date of this publication comments relating to the Consent Decree. Comments should be addressed to the Assistant Attorney General of the Environment and Natural Resources Division, Department of Justice, P.O. Box 7611, Washington, DC 20044-7611, and should refer to United States v. Glen Ekberg, Civil Action No. 01 C 50457, D.J. Ref. 90-11-3-945/1.

The Consent Decree may be examined at the Office of the United States Attorney, 308 W. State Street, Suite 300, Rockford, Illinois, and at the office of the U.S. Environmental Protection Agency, Region 5, 77 W. Jackson Blvd., Chicago, Illinois. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $53.50 (214 pages at 25 cents per page reproduction cost) payable to the U.S. Treasury. For a copy of the Consent Decree alone, without appendices, please enclose a check in the amount of $8.25 (33 pages at 25 cents per page reproduction cost) payable to the U.S. Treasury.

William D. Brighton,
Assistant Chief, Environmental Enforcement Section, Environment and Natural Resources Division.

[FR Doc. 06-6156 Filed 7-11-06; 8:45 am]

BILLING CODE 4410-15-M